ELECTION ASSISTANCE COMMISSION

Request for Substantive Comments on the EAC's Proposed Requirements for the Testing of Pilot Voting Systems To Serve UOCAVA Voters; Correction

AGENCY: United States Election Assistance Commission.

ACTION: Notice; correction.

SUMMARY: This is a correcting to provide for a thirty day public comment period as reflected by commission tally vote. The original notice incorrectly provided for a fifteen day public comment period. The U.S. Election Assistance Commission (EAC) is publishing for public comment a set of proposed requirements for the testing of pilot voting systems to be used by jurisdictions to serve Uniformed and Overseas voters.

FOR FURTHER INFORMATION CONTACT: Matthew Masterson, Phone (202) 566-3100, e-mail votingsystemguidelines@eac.gov.

Correction

In the Federal Register of March 31, 2010, on page 16090, in the first column, correct the DATE caption to read:

DATES: Comments must be received on or before 4 p.m. EST on April 30, 2010.

Alice Miller,
Chief Operating Officer, U.S. Election Assistance Commission.

[FR Doc. 2010-9384 Filed 4-22-10; 8:45 am]

BILLING CODE 6820-KF-P